DEPARTMENT OF AGRICULTURE

U.S. Codex Office

Codex Alimentarius Commission: Meeting of the Codex Committee on Food Hygiene

AGENCY: U.S. Codex Office, USDA.

ACTION: Notice of public meeting and request for comments.

SUMMARY: The U.S Codex Office is sponsoring a public meeting on January 27, 2022. The objective of the public meeting is to provide information and receive public comments on agenda items and draft United States (U.S.) positions to be discussed at the 52nd Session of the Codex Committee on Food Hygiene (CCFH) of the Codex Alimentarius Commission, which will meet virtually, February 28-March 4, 2022 with the report adoption on March 9, 2022. The U.S. Manager for Codex Alimentarius and the Acting Deputy Under Secretary for Trade and Foreign Agricultural Affairs recognize the importance of providing interested parties the opportunity to obtain background information on the 52nd Session of the CCFH and to address items on the agenda.

DATES: The public meeting is scheduled for January 27, 2022, from 1:00 p.m.-3:00 p.m. EST.

ADDRESSES: The public meeting will take place via Video Teleconference only. Documents related to the 52nd Session of the CCFH will be accessible via the internet at the following address: https://www.fao.org/fao-who-codexalimentarius/meetings/detail/en/?meeting=CCFH&session=52.

Ms. Jenny Scott, U.S. Delegate to the 52nd Session of the CCFH, invites U.S. interested parties to submit their comments electronically to the following email address: jenny.scott@fda.hhs.gov.

Registration: Attendees must register to attend the public meeting by January 25, 2022, here: https://www.zoomgov.com/meeting/register/vJItf-yvrTwqE9yjYbgZbeWEHCpqWxw7mQ0. Early registration is encouraged.

For Further Information about the 52nd Session of the CCFH, contact U.S. Delegate, Ms. Jenny Scott at jenny.scott@fda.hhs.gov. For further Information about the public meeting Contact: U.S. Codex Office, 1400 Independence Avenue SW, Room 4861, South Agriculture Building, Washington, DC 20250. Phone (202) 720-7760, Fax: (202) 720-3157, Email: uscodex@usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade.

The Terms of Reference of the Codex Committee on Food Hygiene (CCFH) are:

(a) To draft basic provisions on food hygiene applicable to all food;

(b) to consider, amend if necessary and endorse provisions on hygiene prepared by Codex commodity committees and contained in Codex commodity standards, and

(c) to consider, amend if necessary, and endorse provisions on hygiene prepared by Codex commodity committees and contained in Codex codes of practice unless, in specific cases, the Commission has decided otherwise, or

(d) to draft provisions on hygiene applicable to specific food items or food groups, whether coming within the terms of reference of a Codex commodity committee or not;

(e) to consider specific hygiene problems assigned to it by the Commission;

(f) to suggest and prioritize areas where there is a need for microbiological risk assessment at the international level and to develop questions to be addressed by the risk assessors; and,

(g) to consider microbiological risk management matters in relation to food hygiene and in relation to the risk assessment of FAO and WHO.

The CCFH is hosted by the United States of America.

Issues To Be Discussed at the Public Meeting

The following items on the Agenda for the 52nd Session of the CCFH will be discussed during the public meeting:

• Matters referred by the Codex Alimentarius Commission and/or other Codex Subsidiary Bodies to the Committee

• Matters arising from the Work of FAO and WHO (including the Joint Expert Meetings on Microbiological Risk Assessment, JEMRA)

• Information from the World Organisation for Animal Health (OIE)

• Draft guidance for the management of biological foodborne outbreaks

• Proposed draft Decision Tree (revision of the General Principles of Food Hygiene (CXC 1-1969)

• Proposed draft Guidelines for the control of Shiga toxin-producing Escherichia coli (STEC) in beef, raw milk and cheese produced from raw milk, leafy greens, and sprouts

• Proposed draft Guidelines for the safe use and re-use of water in food production.

Public Meeting

At the January 27, 2022, public meeting, draft U.S. positions on the agenda items will be described and discussed, and attendees will have the opportunity to pose questions and offer comments. Written comments may be offered at the meeting or sent to Ms. Jenny Scott, U.S. Delegate for the 52nd Session of the CCFH (see ADDRESSES). Written comments should state that they relate to activities of the 52nd Session of the CCFH.

Additional Public Notification

Public awareness of all segments of rulemaking and policy development is important. Consequently, the U.S. Codex Office will announce this Federal Register publication on-line through the USDA web page located at: http://www.usda.gov/codex, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on December 1, 2021.
Mary Frances Lowe,
U.S. Manager for Codex Alimentarius.

[FR Doc. 2021-26417 Filed 12-3-21; 8:45 am]

BILLING CODE P